ENVIRONMENTAL PROTECTION AGENCY

[FRL-7904-7]

Draft of the Causal Analysis/Diagnosis Decision Information System (CADDIS) E-Docket No. ORD-2005-0001

AGENCY: Environmental Protection Agency.

ACTION: Notice of external review draft for public review and comment.

SUMMARY: The U.S. Environmental Protection Agency (EPA) is announcing that Versar Inc., an EPA contractor for external scientific peer review, will convene a panel of experts and organize and conduct an external peer-review workshop to review the external review draft Web site titled “Causal Analysis/Diagnosis Decision Information System.” The EPA is also announcing a 30-day public review and comment period for the draft Web site. The CADDIS Web site was developed and prepared by EPA's National Center for Environmental Assessment (NCEA), in the Office of Research and Development (ORD). NCEA will consider public comment submissions in revising the Web site.

DATES: The peer-review panel workshop will begin on June 6, 2005, at 8:30 a.m. and end at 5, eastern daylight time. The 30-day public comment period begins April 27, 2005, and ends May 27, 2005. Technical comments should be in writing and must be submitted electronically or postmarked by May 27, 2005.

ADDRESSES: The peer-review workshop will be held in the 7th floor conference room, at 633 3rd St., NW., Washington DC. To attend the workshop, register by June 1, 2005, by calling Crystal Edwards of NCEA, at 202-564-1140, or send a facsimile to 202-564-2018. You may also register via e-mail at edwards.crystal@epa.gov. The draft CADDIS Web site can be accessed via the Internet at http://www.epa.gov/caddis. Comments may be submitted electronically, by mail, by facsimile, or by hand delivery/courier. Please follow the detailed instructions as provided in the section of this notice entitled SUPPLEMENTARY INFORMATION.

FOR FURTHER INFORMATION CONTACT: For workshop information, registration, and logistics, contact Crystal Edwards, USEPA (8623-N), 1200 Pennsylvania Ave., NW., Washington DC 20460; telephone: 202-564-1140; facsimile: 202-564-2018. For information on the public comment period, contact the Office of Environmental Information Docket; telephone: 202-566-1752; facsimile: 202-566-1753; or e-mail: ORD.Docket@epa.gov. For technical information, contact Susan Norton, Ph.D., NCEA, via facsimile: 202-564-2018, or e-mail: norton.susan@epa.gov.

SUPPLEMENTARY INFORMATION:

Summary of CADDIS Project

Over a thousand water bodies in the United States are listed by states as biologically impaired. For many of these sites, the cause of impairment is reported as “unknown.” Before appropriate management actions can be formulated for impaired water bodies, the causes of biological impairment (e.g., excess fine sediments, nutrients, or toxics) need to be identified. Effective causal analyses call for knowledge of the mechanisms, symptoms, and stressor-response relationships for various stressors, as well as the ability to use that knowledge to draw appropriate, defensible conclusions. To aid in these causal analyses, NCEA has developed the first version of CADDIS. CADDIS is a Web-based decision support system that will help regional, state, and tribal scientists find, access, organize, and share information useful for causal evaluations in aquatic systems. It is based on EPA's Stressor Identification process, which is an EPA-recommended method for identifying causes of impairments in aquatic environments. Current features of CADDIS include a step-by-step guide to conducting causal analysis, downloadable worksheets and examples, a library of conceptual models, and links to useful information sources.

How To Submit Comments to EPA's E-Docket

EPA has established an official public docket for information pertaining to the revision of the CADDIS website, Docket ID No. ORD-2005-0001. The official public docket is the collection of materials, excluding Confidential Business Information (CBI) or other information whose disclosure is restricted by statute, that is available for public viewing at the Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

An electronic version of the official public docket is available through EPA's electronic public docket and comment system, E-Docket. You may use E-Docket at http://www.epa.gov/edocket/ to submit or view public comments, to access the index listing of the contents of the official public docket, and to view those documents in the public docket that are available electronically. Once in the system, select “search,” then key in the appropriate docket identification number.

Certain types of information will not be placed in E-Docket. Information claimed as CBI and other information with disclosure restricted by statute, which is not included in the official public docket, also will not be available for public viewing in E-Docket. Copyrighted material will not be placed in E-Docket, but will be referenced there and available as printed material in the official public docket.

For people submitting public comments, please note that EPA's policy makes that information available for public viewing as received and at no charge at the EPA Docket Center or in E-Docket. This policy applies to information submitted electronically or in paper form, except where restricted by copyright, CBI, or statute. When EPA identifies a comment containing copyrighted material, EPA will provide a reference to that material in the version of the comment placed in EPA's electronic public docket; the entire printed comment, including the copyrighted material, will be available in the public docket.

Public comments submitted on computer disks that are mailed or delivered to the docket will be transferred to E-Docket. Physical objects will be photographed, where practical, and the photograph will be placed in E-Docket along with a brief description written by the docket staff.

You may submit comments electronically, by mail, by facsimile, or by hand delivery/courier. To ensure proper receipt by EPA, include the appropriate docket identification number with your submission. Please adhere to the specified submitting period; public comments received or submitted past the closing date will be marked “late” and may only be considered if time permits.

If you submit public comments electronically, EPA recommends that you include your name, mailing address, and an e-mail address or other contact information in the body of our comment. Also include these contact details on the outside of any submitted disk or CD-ROM, and in any cover letter accompanying the disk or CD-ROM. This ensures that you can be identified as the person submitting the public comments and allows EPA to contact you in case the Agency cannot read your submission due to technical difficulties, or needs further information on the substance of your comment. EPA will not edit your comment, and any identifying or contact information provided in the body of the comment will be included as part of the comment placed in the official public docket and made available in E-Docket. If EPA cannot read what you submit due to technical difficulties and cannot contact you for clarification, it may delay or prohibit EPA's consideration of your comments.

Electronic submission of comments via E-Docket is the preferred method for receiving comments. To access EPA's electronic public docket from the EPA Internet home page, select “Information Sources,” “Dockets,” and “EPA Dockets.” Once in the system, select “search,” and key in Docket ID No. ORD-2005-0001. The system is an “anonymous access” system, which means EPA will not know your identity, e-mail address, or other contact details unless you provide it in the body of your comment.

Comments may be sent by electronic mail (e-mail) to ORD.Docket@epa.gov, Attention Docket ID No. ORD-2005-0001. In contrast to EPA's electronic public docket, EPA's e-mail system is not an “anonymous access” system. If you send an e-mail directly to the docket without going through EPA's E-Docket, EPA's e-mail system automatically captures your e-mail address, and it becomes part of the information in the official public docket and is made available in E-Docket.

You may submit comments on a disk or CD-ROM mailed to the OEI Docket mailing address. Files will be accepted in WordPerfect, Word, or PDF file format. Avoid the use of special characters and any form of encryption.

If you provide comments in writing, please submit one unbound original with pages numbered consecutively, and three copies. For attachments, provide an index, number pages consecutively with the main text, and submit an unbound original and three copies.

Dated: April 20, 2005.
George W. Alapas,
Deputy Director, National Center for Environmental Assessment.

[FR Doc. 05-8442 Filed 4-26-05; 8:45 am]

BILLING CODE 6560-50-P